DEPARTMENT OF COMMERCE

National Oceanic and Atmospheric Administration

[RTID 0648-XF368]

North Pacific Fishery Management Council; Public Meeting

AGENCY: National Marine Fisheries Service (NMFS), National Oceanic and Atmospheric Administration (NOAA), Commerce.

ACTION: Notice of web conference.

SUMMARY: The North Pacific Fishery Management Council (Council) will hold a Crab Modeling Workshop on January 13-15, 2026, and the Bering Sea Aleutian Islands Crab Plan Team (BSAI CPT) will meet on January 15, 2026.

DATES: The meeting will be held on Tuesday, January 13, through Thursday, January 15, 2026, 8 a.m. to 5 p.m. Pacific Time.

ADDRESSES: The BSAI CPT Modeling Workshop, held January 13-15, 2026, is a hybrid meeting. The in-person meeting will be held at the Traynor Room, Alaska Fisheries Science Center, 7600 Sand Point Way NE, Seattle, WA 98115, in Building 4. If you plan to attend in person, please notify Anita Kroska (akroska@npfmc.org) at least 2 days before the meeting (or 2 weeks prior if you are a foreign national). You will also need a valid U.S. Identification Card. Join online through the link at https://meetings.npfmc.org/Meeting/Details/3111.

The half-day Crab Plan Team Meeting on January 15, 2026, will be held virtually from 1 p.m. to 5 p.m. Pacific Time. Join online through the link at https://meetings.npfmc.org/Meeting/Details/3112.

Council address: North Pacific Fishery Management Council, 1007 West 3rd Ave., Suite 400, Anchorage, AK 99501-2252; telephone: (907) 271-2809.

FOR FURTHER INFORMATION CONTACT: Anita Kroska, Council staff; phone; (907) 271-2809; email: akroska@npfmc.org. For technical support, please contact our admin Council staff, email: support@npfmc.org; telephone: (907) 271-2809.

SUPPLEMENTARY INFORMATION:

Agenda

Tuesday, January 13-Thursday, January 15, 2026

The CPT Modeling Workshop agenda will include (a) tools for constructing model-based indices of survey data, (b) GMACS coding updates, stock assessment model developments, simulations, and (c) other business. The agenda is subject to change, and the latest version will be posted at https://meetings.npfmc.org/Meeting/Details/3111 prior to the meeting, along with meeting materials.

Thursday, January 15, 2026, in the Afternoon

The Crab Plan Team agenda will include (a) harvest control rule (HCR) workshop updates; (b) Chionoecetes maturity data flow updates, and (c) any other business. The agenda is subject to change, and the latest version will be posted at https://meetings.npfmc.org/Meeting/Details/3112 prior to the meeting, along with meeting materials.

Connection Information

You can attend the meetings online using a computer, tablet, or smartphone, or by phone only. Connection information will be posted online at: https://meetings.npfmc.org/Meeting/Details/3111 for the Modeling Workshop, and at https://meetings.npfmc.org/Meeting/Details/3112 for the Crab Plan Team meeting.

Public Comment

Public comment letters will be accepted and should be submitted electronically to https://meetings.npfmc.org/Meeting/Details/3111 and https://meetings.npfmc.org/Meeting/Details/3112.

Authority: 16 U.S.C. 1801 et seq.

Dated: December 16, 2025.
Rey Israel Marquez,
Acting Deputy Director, Office of Sustainable Fisheries, National Marine Fisheries Service.

[FR Doc. 2025-23300 Filed 12-17-25; 8:45 am]

BILLING CODE 3510-22-P